DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before August 11, 2005.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-105165

Applicant: U.S. Army'White Sands Missile Range, New Mexico. Applicant requests a new permit for research and recovery purposes to conduct presence/absence surveys for northern aplomado falcon (Falco femoralis septentrionalis) within New Mexico.

Permit No. TE-048464

Applicant: Joanne Roberts, Phoenix, Arizona. Applicant requests an amendment to an existing permit to conduct presence/absence surveys for Canelo Hills ladies'-tresses (Spiranthes delitescens) and Pima pineapple cactus (Coryphantha scheeri var. robustispina) within Arizona.

Permit No. TE-106028

Applicant: Arizona State University, Tempe, Arizona. Applicant requests a new permit for research and recovery purposes to conduct presence/absence surveys for lesser long-nosed bats (Leptonycteris curasoae (=sanborni) yerbabuenae) within Arizona.

Permit No. TE-103076

Applicant: Transcon Infrastructure, Inc., Mesa, Arizona. Applicant requests a new permit for research and recovery purposes to conduct presence/absence surveys for southwestern willow flycatcher (Empidonax traillii extimus) within Arizona.

Permit No. TE-106555

Applicant: Clay Fischer, Austin, Texas. Applicant requests a new permit for research and recovery purposes to conduct presence/absence surveys for the following species within Texas: jaguarundi (Herpailurus (=Felis) yagouaroundi cacomitli), ocelot (Leopardus (=Felis) pardalis), black-capped vireo (Vireo atricapillus), golden-cheeked warbler (Dendroica chrysoparia), southwestern willow flycatcher (Empidonax traillii extimus), and Houston toad (Bufo houstonensis).

Permit No. TE-106816

Applicant: Douglas High School, Douglas, Arizona. Applicant requests a new permit for research and recovery purposes to maintain and propagate the current captive population of Yaqui topminnow (Poeciliopsis occidentalis sonoriensis) and Yaqui chub (Gila purpurea) within Arizona.

Permit No. TE-106764

Applicant: Gary Roemer, Las Cruces, New Mexico. Applicant requests a new permit for research and recovery purposes to conduct surveys, capture, tag, and draw blood for black-footed ferret (Mustela nigripes) within Arizona.

Authority: 16 U.S.C. 1531, et seq.

Dated: June 29, 2005.
Joy E. Nicholopoulos,
Acting Assistant Regional Director, Ecological Services, Region 2, Albuquerque, New Mexico.

[FR Doc. 05-13618 Filed 7-11-05; 8:45 am]

BILLING CODE 4310-55-P